DEPARTMENT OF TRANSPORTATION

Federal Aviation Administration

14 CFR Part 71

[Airspace Docket No. 00-AWP-15]

Modification of Class D and E Surface Areas; Sacramento Executive Airport, CA

AGENCY: Federal Aviation Administration (FAA), DOT.

ACTION: Final rule.

SUMMARY: This action modifies the Class D and E airspace areas at Sacramento Executive Airport by reducing the radius of the basic surface area and by removing those portions of airspace defined as a northeast extension to the basic surface area. A review of airspace and procedures has made this action necessary. The intended effect of this action is to reduce the volume of regulatory airspace at Sacramento Executive Airport to only that necessary for safe and efficient operations.

EFFECTIVE DATE: May 17, 2001.

FOR FURTHER INFORMATION CONTACT: Jeri Carson, Airspace Specialist, AWP-520.11, Air Traffic Division, Western-Pacific Region, Federal Aviation Administration, 15000 Aviation Boulevard, Lawndale, California 90261, telephone (310) 725-6611.

SUPPLEMENTARY INFORMATION:

Background

On November 28, 2000, the FAA published a document (65 FR 70824) proposing to revise the Class D and E airspace areas at Sacramento Executive Airport in Sacramento, California. Interested parties were invited to participate in this rulemaking effort by submitting comments on the proposal to the FAA. In the ensuing comment period, which closed on January 12, 2001, the FAA received no comments on the proposed action.

The Rule

This action amends 14 CFR part 71 by reducing the radius of the basic surface area at Sacramento Executive Airport and by removing those portions of airspace defined as a northeast extension to the basic surface area. The FAA has determined that this regulation only involves an established body of technical regulations for which frequent and routine amendments are necessary to keep them operationally current. Therefore, this regulation— (1) is not a “significant regulatory action” under Executive Order 12866; (2) is not a “significant rule” under DOT Regulatory Policies and Procedures (44 Fr 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

Class D and E2 airspace areas are published in Paragraphs 5000 and 6002, respectively, of FAA Order 7400.9H, Airspace Designations and Reporting Points, dated September 1, 2000, and effective September 16, 2000, through September 15, 2001, which is incorporated by reference in 14 CFR 71.1. The Class D and E2 airspace designations listed in this document will be published subsequently in that Order.

List of Subjects in 14 CFR Part 71

Airspace, Incorporation by reference, Navigation (air).

Adoption of the Amendment

In consideration of the foregoing, the Federal Aviation Administration amends part 71 of Title 14, Code of Federal Regulations as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 5000 Class D Airspace

* * * * *

AWP CA D Sacramento Executive Airport, CA [Revised]

Sacramento Executive Airport, CA

(Lat. 38°30′45″N, long. 121°29′37″W)

Sacramento VORTAC

(Lat. 38°26′37″N, long. 121°33′06″W)

That airspace extending upward from the surface to and including 2,500 feet MSL within a 4-mile radius of Sacramento Executive Airport and within 1.8 miles each side of the Sacramento VORTAC 032° radial, extending from the 4-mile radius southwest to the VORTAC, excluding the airspace within the Sacramento International Airport, CA Class C airspace area. This Class D airspace area is effective during the specific dates and times established in advance by a Notice to Airmen. The effective date and time will thereafter be continuously published in the Airport/Facility Directory.

* * * * *

Paragraph 6002 Class E Airspace Designated as Surface Areas.

* * * * *

AWP CA E2 Sacramento Executive Airport, CA [Revised]

Sacramento Executive Airport, CA

(Lat. 38°30′45″N, long. 121°29′37″W)

Sacramento VORTAC

(Lat. 38°26′37″N, long. 121°33′06″W)

That airspace within a 4-mile radius of Sacramento Executive Airport and within 1.8 miles each side of the Sacramento VORTAC 032° radial, extending from the 4-mile radius southwest to the VORTAC, excluding the airspace within the Sacramento International Airport, CA Class C airspace area. This Class E airspace area is effective during the specific dates and times established in advance by a Notice to Airmen. The effective date and time will thereafter be continuously published in the Airport/Facility Directory.

* * * * *

Issued in Los Angeles, California, on February 12, 2001.
John Clancy,
Manager, Air Traffic Division, Western-Pacific Region.

[FR Doc. 01-4679 Filed 2-23-01; 8:45 am]

BILLING CODE 4910-13-M